DEPARTMENT OF VETERANS AFFAIRS

38 CFR Part 3

RIN 2900-AN54

Diseases Associated With Exposure to Certain Herbicide Agents (Hairy Cell Leukemia and Other Chronic B-Cell Leukemias, Parkinson's Disease and Ischemic Heart Disease); Correction

AGENCY: Department of Veterans Affairs.

ACTION: Final rule; correction.

SUMMARY: The Department of Veterans Affairs (VA) published in the Federal Register on August 31, 2010, a document amending the adjudication regulations concerning the presumptive service connection for certain diseases based upon the most recent National Academy of Sciences Institute of Medicine committee report, Veterans and Agent Orange: Update 2008. In the preamble of that document, VA inadvertently included an incorrect Web site address. This document corrects the Web site address.

DATES: Effective Date: This correction is effective September 8, 2010.

FOR FURTHER INFORMATION CONTACT: Janet Coleman, Office of Regulation Policy and Management, Department of Veterans Affairs, 810 Vermont Avenue, NW., Washington, DC 20420, (202) 461-4902 (This is not a toll-free number.).

SUPPLEMENTARY INFORMATION: On August 31, 2010, VA published in the Federal Register (75 FR 53202), an amendment to 38 CFR 3.309 to add hairy cell leukemia and other chronic B-cell leukemias, Parkinson's disease and ischemic heart disease to the list of diseases subject to presumptive service connection based on herbicide exposure. On page 53215 of that document, in the third column, second paragraph, we inadvertently provided a Web site of: “http://vaww1.va.gov/ORPM/FY_2010_Published_VA_Regulations.asp”, which is corrected to read: “http://www1.va.gov/ORPM/FY_2010_Published_VA_Regulations.asp”.

List of Subjects in 38 CFR Part 3

Administrative practice and procedure, Claims, Disability benefits, Health care, Pensions, Radioactive materials, Veterans, Vietnam.

Approved: September 2, 2010.
Robert C. McFetridge,
Director, Regulation Policy and Management, Office of the General Counsel, Department of Veterans Affairs.

[FR Doc. 2010-22281 Filed 9-7-10; 8:45 am]

BILLING CODE P